DEPARTMENT OF THE INTERIOR

Bureau of Land Management

[LLCAD09000, L51010000.LVRWB09B2380.FX0000] Notice of Availability of a Draft Environmental Impact Statement/Environmental

Impact Report for the Proposed Stateline Solar Farm, San Bernardino County, CA and Draft California Desert Conservation Area Land Use Plan Amendments

AGENCY: Bureau of Land Management, Interior.

ACTION: Notice of availability.

SUMMARY: In accordance with the National Environmental Policy Act of 1969, as amended, and the Federal Land Policy and Management Act of 1976, as amended (FLPMA), the Bureau of Land Management (BLM) has prepared a Draft California Desert Conservation Area (CDCA) Plan Amendment and a Draft Environmental Impact Statement/Environmental Impact Report (EIS/EIR) for the Stateline Solar Farm Project (Stateline) and by this notice is announcing the opening of the comment period.

DATES: To ensure that comments will be considered, the BLM must receive written comments on the Draft Plan Amendment and Draft EIS/EIR within 90 days following the date the Environmental Protection Agency publishes its Notice of Availability in the Federal Register. The BLM will announce future meetings or hearings and any other public involvement activities at least 15 days in advance through public notices, media releases, and/or mailings.

ADDRESSES: You may submit comments related to the Stateline Draft Plan Amendment and Draft EIS/EIR by any of the following methods:

• Web site: http://www.blm.gov/ca/st/en/fo/cdd.html.

• Email: statelinesolar@blm.gov.

• Fax: 951-697-5299.

• Mail: ATTN: Jeffery Childers, Project Manager, BLM California Desert District Office, 22835 Calle San Juan de Los Lagos, Moreno Valley, CA 92553-9046

Copies of the Stateline Draft Plan Amendment and Draft EIS/EIR are available for public inspection at BLM California Desert District Office at the above address; or on the Internet at http://www.blm.gov/ca/st/en/fo/cdd.html.

FOR FURTHER INFORMATION CONTACT: Jeffery Childers, Project Manager; telephone 951-697-5308; address BLM California Desert District Office, 22835 Calle San Juan de Los Lagos, Moreno Valley, CA 92553-9046; email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: First Solar Development, Inc. (First Solar) has requested a right-of-way (ROW) authorization to construct, operate, maintain and decommission the 300-megawatt (MW) Stateline Project from the BLM and a separate well permit from the County of San Bernardino. The BLM is responding to the ROW application as required by FLPMA. The proposed project located on BLM-administered lands would include access roads, a photovoltaic arrays, an electrical substation, a meteorological station, a monitoring and maintenance facility, water wells, and a 2.3-mile generation tie-line on up to 2,143 acres. The project location is in San Bernardino County approximately 2 miles south of the Nevada-California border and 0.5 miles west of Interstate 15.

The BLM's purpose and need for the Stateline EIS/EIR is to respond to First Solar's application for a ROW grant to construct, operate, maintain, and decommission a photovoltaic solar energy facility on public lands in compliance with FLPMA, BLM ROW regulations, and other applicable Federal laws. The BLM will decide whether to grant, grant with modification, or deny a ROW to First Solar. In connection with its consideration of the Stateline ROW application, the BLM is proposing to amend the CDCA Plan by designating the project area as either suitable or unsuitable for solar energy development. The CDCA Plan (1980, as amended), recognized the potential compatibility of solar energy generation facilities with other uses on public lands; however, it requires that all sites proposed for power generation or transmission not already identified in the plan be considered through the plan amendment process. While connected, the decision to amend the CDCA plan is separate from the decision to approve the ROW application. As part of its consideration of project impacts, the BLM may also amend the CDCA Plan to address cumulative impacts of this and other developments in the Ivanpah Valley watershed. Specifically, the BLM will consider whether to expand the boundaries of the Ivanpah Desert Wildlife Management Area (DWMA).

The Draft Plan Amendment and Draft EIS/EIR analyze four project development alternatives, including the proposed action, which is analyzed as Alternative 1: 300 MWs of development on 2,143 acres. The other alternatives include—Alternative 2: 300 MWs of development on 2,385 acres; Alternative 3: 300 MWs of development on 2,151 acres; and Alternative 4: 232 MWs of development on 1,766 acres. In addition to project-related impacts, all project development alternatives analyze potential expansion of the current boundaries of the Ivanpah DWMA. The management prescriptions for the Ivanpah DWMA are defined in Appendix A, Section A.2, of the Northern and Eastern Mojave Desert Management Plan Amendment to the California Desert Conservation Area Plan (July 2002). If the DWMA is expanded, these management prescriptions will be applied to the expansion.

The Draft Plan Amendment and Draft EIS/EIR also analyze three No Project alternatives—Alternative 5: No Action; Alternative 6: No Project and amendment of the CDCA Plan to find the Project area unsuitable for solar development; and Alternative 7: No Project and amendment of the CDCA Plan to find the Project area suitable for solar development.

The Draft Plan Amendment and EIS/EIR evaluate the potential impacts of the proposed Stateline on air quality and greenhouse gas emissions, biological resources, cultural resources, special status species, geology and soils, hazards and hazardous materials, hydrology and water quality, land use, noise, recreation, traffic, visual resources, lands with wilderness characteristics, cumulative effects and areas with high potential for renewable energy development.

A Notice of Intent to Prepare a Draft Plan Amendment and EIS/EIR for the Stateline Project was published in the Federal Register on August 4, 2011 (76 FR 47235). The BLM held one joint public scoping meeting with San Bernardino County at the Primm Valley Golf Course on August 31, 2011. The formal scoping period ended on September 6, 2011.

Please note that public comments will be available for public review at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Thomas Pogacnik,
Deputy State Director, Natural Resources.

[FR Doc. 2012-28392 Filed 11-21-12; 8:45 am]

BILLING CODE 4310-40-P